DEPARTMENT OF THE TREASURY

Internal Revenue Service

26 CFR Part 1

[TD 9313]

RIN 1545-BG29

Corporate Reorganizations; Additional Guidance on Distributions Under Sections 368(a)(1)(D) and 354(b)(1)(B); Correction

AGENCY: Internal Revenue Service (IRS), Treasury.

ACTION: Correcting amendment.

SUMMARY: This document contains a correction to temporary regulations (TD 9313) that were published in the Federal Register on Thursday, March 1, 2007 (72 FR 9262) providing guidance regarding the qualification of certain transactions as reorganizations described in section 368(a)(1)(D) where no stock and/or securities of the acquiring corporation are issued and distributed in the transaction.

DATES: This correcting amendment is effective April 13, 2007.

FOR FURTHER INFORMATION CONTACT: Bruce A. Decker at (202) 622-7550 (not a toll-free number).

SUPPLEMENTARY INFORMATION:

Background

The temporary regulations that are the subject of this correction are under section 368 of the Internal Revenue Code.

Need for Correction

As published, temporary regulations (TD 9313) contain an error that may prove to be misleading and is in need of clarification.

List of Subjects in 26 CFR Part 1

Income taxes, Reporting and recordkeeping requirements.

Correction of Publication

Accordingly, 26 CFR part 1 is corrected by making the following amendment:

PART 1—INCOME TAXES

Paragraph 1. The authority citation for part 1 continues to read, in part, as follows:

Authority: 26 U.S.C. 7805 * * *

Par. 2. Section 1.368-2T is amended by revising paragraph (l)(2)(iv) to read as follows:

§ 1.368-2T Definition of terms (temporary).

* * * * *

(l) * * *

(2) * * *

(iv) Exception. This paragraph (l)(2) does not apply to a transaction otherwise described in section 1.358-6(b)(2) or section 368(a)(1)(G) by reason of section 368(a)(2)(D).

* * * * *

LaNita Van Dyke,
Chief, Publications and Regulations Branch Legal Processing Division, Associate Chief Counsel (Procedure and Administration).

[FR Doc. E7-6979 Filed 4-12-07; 8:45 am]

BILLING CODE 4830-01-P